DEPARTMENT OF TRANSPORTATION

Federal Highway Administration

Availability of the Draft Tier I Environmental Impact Statement

AGENCY: Federal Highway Administration (FHWA), DOT.

ACTION: Notice of Availability of the Draft Tier I Environmental Impact Statement.

SUMMARY: The FHWA, on behalf of the California Department of Transportation (Caltrans), announces the availability of the Draft Tier I Environmental Impact Statement (EIS) for a proposed route adoption study in Fresno County, California.

DATES: Public circulation of this document will begin on March 16, 2011 and will end on May 9, 2011. An open forum public hearing will be held for this project on Wednesday, March 30, 2011 between 4:30 p.m. and 7:30 p.m. in Kerman. The location is Kerman Community Center, 15101 W. Kearney Boulevard, Kerman, CA 93630.

ADDRESSES: This document will be available at the Caltrans District 6 Office, 1352 West Olive Avenue, Fresno, CA 93728 on weekdays from 8 a.m. to 4 p.m.. Copies of the document can also be read at the Fresno County Library, 2420 Mariposa Street, Fresno, CA 93721; the Kerman Branch Library, 15081 West Kearney Boulevard, Kerman, CA, 93630; and the Mendota Branch Library, 1246 Belmont Avenue, Mendota, CA, 93640. The Draft Tier I EIS is also available at http://www.dot.ca.gov/dist6/environmental/projects/sr180westside/.

FOR FURTHER INFORMATION CONTACT: G. William “Trais” Norris III, Sierra Pacific Environmental Analysis Branch, 2015 East Shields Avenue, Suite 100, Fresno, CA 93726. E-mail trais_norris@dot.ca.gov. Telephone (559) 243-8178.

SUPPLEMENTARY INFORMATION: Effective July 1, 2007, the FHWA assigned, and Caltrans assumed, environmental responsibilities for this project pursuant to 23 U.S.C. 327. Caltrans as the delegated National Environmental Policy Act (NEPA) agency, has prepared a Draft Tier I EIS on a proposal for a route adoption of State Route 180 between Interstate 5 and the end of the freeway portion of State Route 180, just west of the Fresno City limits in Fresno County. Caltrans approved the Draft Tier I EIS on March 8, 2011.

The proposed route adoption will identify the most appropriate location for an ultimate four-lane expressway for State Route 180 within the study area. Three route adoption alternatives and the No-Action/No-Project Alternative are under consideration. For the purposes of a route adoption, each alternative is 1,000 feet wide.

Alternative 1 extends approximately 48 miles across the valley, beginning at a point where a direct westerly extension of Belmont Avenue would intersect Interstate 5 and generally follows existing State Route 180 until it reaches a connection with the existing State Route freeway terminus at Brawley Avenue. This alternative contains three variations that were developed to bypass or provide access to affected communities.

Alternative 2 extends approximately 49 miles across the valley, beginning at a point where a direct westerly extension of Belmont Avenue would intersect Interstate 5 and follows the same alignment at Alternative 1 until just east of State Route 33. It then travels northeasterly to generally follow the McKinley Avenue, Belmont, and Nielsen Avenue alignments as it travels east to join the existing State Route 180 freeway.

Alternative 3 extends approximately 50 miles across the valley. This alternative begins at an existing interchange on Interstate 5 at Shields Avenue and runs eastward 18 miles to State Route 33, north of Mendota. From here, the route continues eastward generally paralleling to the south of the San Joaquin River/Madera County line. The route veers southeasterly to coincide with Alternative 2 for the remainder of the alignment. The No-Action/No-Project Alternative would result in no action being taken.

(Catalog of Federal Domestic Assistance Program Number 20.205, Highway Planning and Construction. The regulations implementing Executive Order 12372 regarding intergovernmental consultation on Federal programs and activities apply to this program.)

Issued on: March 14, 2011.
Maiser Khaled,
Acting Director, State Programs, Federal Highway Administration, Sacramento, California.

[FR Doc. 2011-6374 Filed 3-17-11; 8:45 am]

BILLING CODE 4910-22-P